ENVIRONMENTAL PROTECTION AGENCY

[ER-FRL-6655-4]

Environmental Impact Statements and Regulations; Availability of EPA Comments

Availability of EPA comments prepared pursuant to the Environmental Review Process (ERP), under Section 309 of the Clean Air Act and Section 102(2)(c) of the National Environmental Policy Act, as amended. Requests for copies of EPA comments can be directed to the Office of Federal Activities at (202) 564-7167. An explanation of the ratings assigned to draft environmental impact statements (EISs) was published in FR dated April 2, 2004 (69 FR 17403).

Draft EISs

ERP No. D-FTA-J54001-UT Rating EC2, Weber County to Salt Lake City Commuter Rail Project, Proposes a Commuter Rail Transit Service with Nine Stations between Salt Lake City and Peasant View, Funding, Weber, Davis and Salt Lake Counties, UT.

Summary: EPA expressed environmental concerns because the draft EIS: does not analyze a full range of alternatives; does not disclose enough of the CWA Section 404 process, but defers the process until later; does not disclose the effects of additional diesel emissions from locomotives on air quality; and does not disclose mitigation for the preferred alternative, particularly for wetlands, riparian woodland and air quality impacts from construction.

ERP No. D-NOA-E91015-00 Rating LO, Reef Fish Fishery Management Plan (FMP) Amendment 23, To Set Vermilion Snapper Sustainable Fisheries Act Targets and Thresholds and to Establish a Plan to End Overfishing and Rebuild the Stock, Implementation, Gulf of Mexico.

Summary: EPA has no objections to the proposed action.

ERP No. DS-BLM-K60105-CA Rating EC2, U.S. Army National Training Center, Proposed Addition of Maneuver Training Land at Fort Irwin, Implementation, San Bernardino County, CA.

Summary: EPA raised environmental concerns regarding impacts and mitigation for construction-related air emission, and properly reporting the release of oil or a hazardous substance into the environment.

ERP No. DS-NOA-A91063-00 Rating LO, Monkfish Fishery Management Plan (FMP) Amendment 2, Implementation, Updated and Additional Information, New England and Mid-Atlantic Coast.

Summary: EPA has no objections to the proposed action.

Final EISs

ERP No. F-AFS-J65414-UT, State of Utah School and Institutional Trust Lands Administration (SITLA) Access Route on East Mountain, National Forest System Lands Administered by Mantila Sal National Forest, Ferron/Price Ranger District, Emery Counties, UT.

Summary: EPA continues to express environmental concerns with the potential for adverse impacts to water quality, soils and fish and wildlife, from the logging, exploratory wells and coal exploration as proposed in the selected alternative.

ERP No. F-AFS-L65443-OR, Biscuit Fire Recovery Project, Various Management Activities Alternatives, Implementation, The Rogue River and Siskiyou National Forests, Josephine and Curry Counties, OR.

Summary: EPA continues to express the following environmental concerns: (1) Potential adverse impacts to large-scale postfire logging on sediment loads to impaired streams; (2) detrimental effects to key watersheds; (3) loss of large woody debris to streams; and (4) adverse effects on riparian habitat and inventoried roadless areas.

ERP No. F-BIA-J60021-UT, Tekoi Balefill Project on the Skull Valley Band of Goshute Indians Reservation, Approval of Long-Term Lease of Indian Land for a Commercial Solid Waste Disposal Facility, Salt Lake City, Tooele County, UT.

Summary: EPA continues to have concerns regarding the Tribe's oversight and regulation of the landfill to ensure that environmental impacts are controlled and/or mitigated.

ERP No. F-DOE-L91018-OR, Northeast Oregon Hatchery Program, Grande Ronde—Imnaha Spring Chinook Hatchery Modification and Modernization of Two Existing Hatchery Facilities and Construction of Three New Auxiliary Hatchery Facilities, Wallowa County, OR.

Summary: No formal comment letter was sent to the preparing agency.

ERP No. F-NOA-E91014-00, Generic Essential Fish Habitat Amendment to the Fishery Management Plans of the Gulf of Mexico (GOM) for Shrimp, Red Drum, Reef Fish, Stone Crab, Coral and Coral Reef and Spiny Lobster Fisheries, Implementation, GOM and South Atlantic Coastal Migratory Pelagic Resources of the Gulf of Mexico and South Atlantic.

Summary: EPA supported the NOAA Fisheries designation of EFH for the subject fisheries and suggested strategies to reduce the administrative burden of consultations of EFH designation.

ERP No. F-NOA-L91017-00, Programmatic EIS—Pacific Salmon Fisheries Management Plan, Off the Coasts of Southeast Alaska, Washington, Oregon and California, and the Columbia River Basin, Implementation, Magnuson-Stevens Act, AK, WA, OR and CA.

Summary: No formal comment letter was sent to the preparing agency.

ERP No. F-NOA-L91023-00, Pacific Coast Groundfish Fishery Management Plan, Amendment 16-3 Adopts Rebuild Plans for Bocaccio, Cowcod, Widow Rockfish and Yelloweye Rockfish, Maximum Sustainable Yield (MSY), Implementation, WA, OR, ID and CA.

Summary: No formal comment letter was sent to the preparing agency.

ERP No. FB-NOA-A91065-00, Final Rule to Implement Management Measures for the Reduction of Sea Turtle Bycatch and Bycatch Mortality in the Atlantic Pelagic Longline Fishery.

Summary: No formal comment letter was sent to the preparing agency.

Dated: August 31, 2004.
Robert W. Hargrove,
Director, NEPA Compliance Division, Office of Federal Activities.

[FR Doc. 04-20143 Filed 9-2-04; 8:45 am]

BILLING CODE 6560-50-U